DEPARTMENT OF TRANSPORTATION

Federal Aviation Administration

Notice of Intent To Prepare an Environmental Impact Statement and Conduct Scoping for Air Traffic Procedural Changes Associated With the New York/New Jersey/Philadelphia Metropolitan Airspace Redesign Project

AGENCY: Federal Aviation Administration, DOT.

ACTION: Notice of intent to prepare an environmental impact statement and conduct scoping meetings.

SUMMARY: The Federal Aviation Administration (FAA), Eastern Region, is issuing this notice to advise the public, pursuant to the National Environmental Policy Act of 1969, as amended, (NEPA) 42 U.S.C. 4332(2)(C) that the FAA intends to prepare an Environmental Impact Statement (EIS) for the proposed New York/New Jersey/Philadelphia Metropolitan Airspace Redesign Project. This Notice of Intent is published as required by the President's Council on Environmental Quality (CEQ) Regulations implementing the provisions of NEPA, 40 CFR parts 1500-1508. The EIS will assess the potential environmental impacts resulting from proposed modifications to air traffic routings in the metropolitan New York and Philadelphia areas. Airports in this are include Newark International Airport, John F. Kennedy International Airport, La Guardia Airport, and the Philadelphia International Airport, as well as several regional (commuter) and general aviation use airports. The redesign project will examine the airspace surrounding area airports up to and including the high altitude enroute structure. The study area includes the State of New Jersey, and parts of New York, Connecticut, Pennsylvania and Delaware. All reasonable alternatives will be considered including a no-charge alternative/option. In order to ensure that all significant issues pertaining to the proposed action are identified, public participation, through public scoping meetings, will be held.

FOR FURTHER INFORMATION CONTACT: Ms. Moira Keane, Environmental Specialist, Federal Aviation Administration, Eastern Region Air Traffic Division, Airspace Branch, AEA-522.1, 1 Aviation Plaza, Jamaica, New York 11434-4809 (718) 553-4530.

SUPPLEMENTARY INFORMATION: The New York/New Jersey/Philadelphia Metropolitan Airspace Redesign Project encompasses a large geographic area, including the State of New Jersey, and parts of New York, Connecticut, Pennsylvania and Delaware. The airports in the study area are: Newark International Airport, John F. Kennedy International Airport, La Guardia Airport and Philadelphia International Airport as well as several regional (commuter) and general aviation use airports.

In response to the enormous flow of air traffic in the study area, the FAA is examining alternative ways to modify air traffic routes and procedures to reduce delays and pilot/controller workloads, while enhancing safety. The airspace redesign team is using sophisticated modeling tools to develop viable air traffic control (ATC) alternatives to current operations. The FAA will examine methods that will take advantage of new and emerging ATC technologies, improved performance characteristics of modern aircraft, as well as improvements in navigation capabilities. The proposed project may include, but will not necessarily be limited to the following alternatives: modification of existing procedures; identification of new conceptual alternative(s), and examination of an ocean routing alternative. The project is not associated with any airport development projects nor construction of any physical facilities.

As part of the airspace redesign effort, a FAA environmental team will provide detailed analyses that will be used to evaluate the potential environmental impacts in the study area. During scoping , and upon publication of a draft EIS and a final EIS, the FAA will be contacting and coordinating with federal, state, and local agencies, as well as the public, to obtain comments and suggestions regarding the EIS for the proposed project. The EIS will assess impacts and reasonable alternatives, including the “no change” alternative, pursuant to NEPA, FAA Order 1050.1D, Policies and Procedures for Considering Environmental Impacts, DOT Order 5610.1C, Procedures for Considering Environmental Impacts, and the President's Council on Environmental Quality (CEQ) Regulations implementing the provisions of NEPA, 40 CFR Parts 1500-1508.

Public Scoping Process: The FAA will utilize the scoping process as outlined in the Council on Environmental Quality (CEQ) Regulations and guidelines to facilitate public involvement early in the redesign process. Concerned individuals and agencies will be invited to express their views either in writing, by letter or by providing oral comments at a scoping meeting. The purposes of the scoping process and scoping meetings are: (1) To provide a description of the proposed action, (2) to provide an early and open process to determine the scope of issues to be addressed and to identify potentially significant issues or impacts related to the proposed action that should be analyzed in the EIS, (3) to identify other coordination and any permit requirements associated with the proposed action and (4) to identify and eliminate from detailed study those issues that are not significant or those that have been adequately addressed during a prior environmental review process.

The FAA will schedule a series of public scoping meetings. Each meeting will be held from 7 p.m. to 9 p.m. at specific sites located throughout the study area. Each of the meetings will begin with an overview of the project (7 p.m.-7:30 p.m.) and will be followed by an informal open house period (7:30 p.m.-8:30 p.m.). The open house portion of each public scoping meeting will include redesign displays and graphics and will provide an opportunity for one-on-one interaction between the representatives of the FAA and the general public. Following the open house part of the meeting, a Question and Answer session will be provided (8:30 p.m.-9 p.m.). Comments will be received via court reporter or written comment forms throughout the duration of the meeting.

In accordance with NEPA coordination requirements, the FAA will schedule three meetings that will be dedicated primarily to federal, state and local agency staff. These meetings will be scheduled from 1 to 3 p.m. at the Manhattan, NY, Philadelphia, PA and Trenton, NJ meeting locations. Although these meetings will be held primarily for the benefit of federal, state, and local agency staff, they will also be open to the public. The scoping period begins with this announcement. To ensure that all issues are identified, the FAA is requesting comments and suggestions on the project scope from all interested federal, state, and local agencies and other interested parties. In furtherance of this effort, the FAA has established an Internet Website that can be accessed at: http://www.faa.gov/region/aea/atsoeaaa/framedoc.htm. Additional information about the New York/New Jersey/Philadelphia Metropolitan Airspace Redesign Project, including the scoping meeting schedule and meeting locations can be found at this Internet site. Additionally, the FAA will be maintaining the following toll free number for general information: 1-866-EISLine (1-866-347-5463).

The FAA will accept written scoping comments through June 29, 2001. Such comments should be directed to the following address: New York/New Jersey/Philadelphia Metropolitan Airspace Redesign Project, c/o Mr. Mike Merrill, PRC Inc., 12005 Sunrise Valley Dr., Reston, VA 20191-3423. EMAIL: merrill_michael@prc.com.

Issued in Jamaica, New York on January 5, 2001.
F.D. Hatfield,
Manager, Air Traffic Division.

[FR Doc. 01-1859 Filed 1-19-01; 8:45 am]

BILLING CODE 4910-13-M